DEPARTMENT OF THE INTERIOR

Bureau of Land Management

[CA-169-07-1610-DO]

Revised Notice of Intent To Prepare a Resource Management Plan and Associated Environmental Impact Statement for the Carrizo Plain National Monument, California

AGENCY: Bureau of Land Management, Interior.

ACTION: Notice of Intent.

SUMMARY: This notice is a revision of the April 24, 2002 Notice of Intent (Federal Register Volume 67, Number 79, pages 20152-20153). In compliance with the National Environmental Policy Act of 1969 (NEPA), the Federal Land Policy Management Act of 1976 (FLPMA, and the Code of Federal Regulations (40 CFR 1501.7, 43 CFR 1610.2), notice is hereby given that the Bureau of Land Management (BLM) intends to initiate a new scoping process for a Resource Management Plan and Environmental Impact Statement (RMP/EIS). Previously, the BLM announced that an Environmental Assessment would be prepared in connection with the RMP for the Carrizo Plain National Monument. By this notice, the BLM is announcing public scoping meetings.

DATES: Specific dates and locations of public meetings will be announced at least 15 days in advance through local news media and on BLM's Web site, http://www.ca.blm.gov. We will provide additional formal opportunities for public participation upon publication of the Draft RMP/EIS, expected to be ready for public review and comment sometime in 2007.

ADDRESSES: Written scoping comments should be sent to: Monument Manager, Carrizo Plain National Monument, Bakersfield Field Office, 3801 Pegasus Drive, Bakersfield, Calif. 93308. Scoping comments previously submitted following publication of the 2002 Notice of Intent are still valid and will be considered together with comments received pursuant to this revised notice. Commentors do not need to resubmit comments but may provide additional comments or clarifications of those previously made.

FOR FURTHER INFORMATION CONTACT: Monument Manager, Carrizo Plain National Monument, Bakersfield Field Office, 3801 Pegasus Drive, Bakersfield, Calif. 93308 or telephone (661) 391-6000.

SUPPLEMENTARY INFORMATION: With the recent appointment of the new Carrizo Plain National Monument Advisory Committee, the BLM is resuming work with the public on developing a draft RMP to guide future management of the Monument.

BLM has decided to prepare an EIS to support the plan, based on public requests and BLM's interest in expanding public involvement in the planning process. The BLM will use an interdisciplinary approach to develop the RMP in order to consider the variety of resource issues and concerns identified during scoping.

In cooperation with the Monument Advisory Committee, the BLM and its Monument managing partners, The Nature Conservancy and the California Department of Fish and Game, will be conducting additional public scoping meetings to gather input on issues to be addressed in the draft RMP and EIS. To be most helpful, you should submit formal scoping comments within 30 days after the last public meeting. The minutes and list of attendees for each scoping meeting will be available to the public and open for 30 days after the meeting to any participant who wishes to clarify the views he or she expressed. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, are available for public inspection in their entirety.

The Carrizo Plain, the largest undeveloped remnant of the once vast San Joaquin Valley ecosystem, was designated a national monument in 2001 in recognition of its special resource values, including threatened and endangered species such as the San Joaquin kit fox, giant kangaroo rat, and blunt-nosed leopard lizard. It also contains nationally significant geological features, such as one of the best exposed examples of the 10-million year old San Andreas Fault, as well as one of the most significant cultural sites in California, at Painted Rock. In the spring, the Plain exhibits a lavish wildflower display of goldfields, purple owls, lupine, and the rare California jewel flower.

Dated: November 27, 2006.
Ron Huntsinger,
Field Manager, Bakersfield Field Office.

Editorial Note: This document was received at the Office of the Federal Register on February 26, 2007.

[FR Doc. E7-3640 Filed 3-1-07; 8:45 am]

BILLING CODE 4310-GG-P